DEPARTMENT OF THE INTERIOR

Bureau of Land Management

[CA-330-03-1610-00]

Notice of Availability of the Headwaters Forest Reserve Proposed Resource Management Plan and Final Environmental Impact Statement/Environmental Impact Report

AGENCY: Bureau of Land Management, Interior.

ACTION: Notice of Availability of the Headwaters Forest Reserve Proposed Resource Management Plan (RMP) and Final Environmental Impact Statement (FEIS)/Environmental Impact Report (EIR).

SUMMARY: The Bureau of Land Management (BLM) and California Department of Fish and Game have jointly prepared a Proposed RMP and associated FEIS and EIR for the Headwaters Forest Reserve (Reserve) located in Humboldt County, California. The Proposed RMP and FEIS/FEIR have been prepared pursuant to the National Environmental Policy Act (NEPA) and California Environmental Quality Act (CEQA), the Federal Land Policy and Management Act (FLPMA), the act establishing the Reserve (H.R. 2107), and BLM policies. The Proposed RMP was developed with broad public participation beginning with scoping meetings in June 2000, release of a draft RMP with public meetings in June 2002, and ongoing dialogue with a variety of publics. Both land use planning and implementation-level planning for the Reserve are included in the Proposed RMP which addresses management on the approximately 7,500 acre Reserve.

DATES: BLM Planning Regulations (43 CFR 1610.5-2) state that any person who participated in the planning process, and has an interest that may be adversely affected, may protest. The protest must be filed within 30 days of the date that the Environmental Protection Agency publishes this notice in the Federal Register. More specific instructions and requirements for protests are contained in the Supplementary Information section of this notice.

ADDRESSES: Copies of the Proposed RMP may be obtained from the following Bureau of Land Management locations: BLM Arcata Field Office, 1695 Heindon Road, Arcata, CA 95521, telephone (707) 825-2300; BLM California State Office, 2800 Cottage Way, Room W-1834, Sacramento, CA 95825, telephone (916) 978-4600; or requested by e-mail at caweb330@ca.blm.gov. BLM will also announce the availability of the Proposed RMP through local media outlets, the current project mailing list, and on the BLM Arcata Field Office Web site (http://www.ca.blm.gov/arcata/index.html).

FOR FURTHER INFORMATION CONTACT: Headwaters Forest Reserve Management Plan Information Line, (916) 737-3010, ext. 4326; Karen Kovacs, California Department of Fish and Game, (707) 441-5789; Lynda Roush, Bureau of Land Management, (707) 825-2300.

SUPPLEMENTARY INFORMATION: The Headwaters Forest Reserve was acquired by the Secretary of Interior and State of California on March 1, 1999 as a culmination of a comprehensive agreement of 1996, the Headwaters Agreement, between the Department of Interior, State of California, and the Pacific Lumber Company (PALCO), for the transfer of approximately 7,500 acres of old-growth and young-growth timber stands and associated buffers in a reserve, and among other considerations, the completion and approval of a Sustained Yield Plan (SYP) and Habitat Conservation Plan (HCP) for PALCO property. Cash transfer for the purchase of the Headwaters Forest Reserve was authorized in the 1997 Interior Appropriations bill (H.R. 2107) on the Federal side and in Assembly Bill 1986 (AB 1986), Headwaters Forest, Owl Creek, and Grizzly Creek, on the state side. The Federal legislation authorizing acquisition, (1) established a specific boundary and point of access, (2) called for joint federal-state acquisition, with management by the federal government and an easement to guarantee conservation management granted to the state, and (3) established the requirement for the development of a management plan.

The 7,500-acre tract acquired includes 3,100 acres of unharvested conifer forests dominated by redwood groves and surrounded by 4,400 acres of previously harvested forest. It is located in the northwestern coast ranges of California near Humboldt Bay in Humboldt County, part of California's north coast region. The Reserve includes the headwaters of three streams draining into Humboldt Bay; South Fork Elk River, Little South Fork Elk River, and Salmon Creek. The Reserve contains three federally listed threatened fish species: southern Oregon/northern California coasts Coho salmon, northern California steelhead, and California coastal Chinook salmon, and two federally listed threatened animals: marbled murrelet and northern spotted owl. The Reserve is designated critical habitat for the Coho, Chinook, and the Murrelet. The Reserve is identified in the PALCO HCP as a site for monitoring undisturbed baseline conditions for water quality and wildlife habitat.

BLM has considered an array of alternatives including specific land use allocations and prescriptions consistent with the legislative intent for the Reserve. Species management, forest and watershed restoration, recreation, critical resource values, and research are addressed.

The planning process includes an opportunity for administrative review through a plan protest to the BLM Director should a previous commenter on the plan believe that the decision has been issued in error. Only those persons or organizations who participated in the planning process may protest. Protests from parties having no previous involvement will be denied without further review. A protesting party may raise only those issues which were submitted for the record during the planning process. New issues raised in the protest period should be directed to the BLM, Arcata Field Manager, 1695 Heindon Road, Arcata, CA 95521 for consideration in plan implementation, as potential plan amendments, or as otherwise appropriate. The period for filing protests begins when the EPA publishes in the Federal Register its Notice of Receipt of the FEIS containing the proposed resource management plan. To be considered “timely” the protest must be postmarked no later than the last day of the 30-day protest period. Also, although not a requirement, it is recommended that the protest be sent by certified mail, return receipt requested. E-mail protests will not be accepted. Faxed protests will be considered as potential valid protests provided (1) that the signed faxed letter is received by the Washington Office protest coordinator by the closing date of the protest period and (2) that the protesting party also provides the original letter by either regular or overnight mail postmarked by the close of the protest period. Please direct faxed protests to “BLM Protest Coordinator” at 202-452-5112. Please direct the follow-up letter to the appropriate address provided below. Protest must be filed in writing to: Director (210), Attention: Brenda Williams, P.O. Box 66538, Washington, DC 20035; or by overnight mail to: Director (210), Attention: Brenda Williams, 1620 L Street NW., Suite 1075, Washington, DC 20036. In order to be considered complete, the protest must contain, at a minimum, the following information:

1. The name, mailing address, telephone number, and interest of the person filing the protest.

2. A statement of the issue or issues being protested.

3. A statement of the part or parts of the plan being protested. To the extent possible, this should be done by reference to specific pages, paragraphs, sections, tables, maps, etc. included in the proposed RMP.

4. A copy of all documents addressing the issue or issues which were submitted during the planning process or a reference to the date the issue or issues were discussed by you for the record.

5. A concise statement explaining why the decision of the BLM California State Director is believed to be incorrect. This is a critical part of the protest. Take care to document all relevant facts. As much as possible, reference or cite the planning documents, environmental analysis documents, available planning records (i.e. meeting minutes or summaries, correspondence, etc.) A protest which merely expresses disagreement with the proposed decision, without supporting data will not provide additional basis for the Director's review of the decision.

Please note that comments, including names and street addresses of respondents, are available for public review and/or release under the Freedom of Information Act (FOIA). Individual respondents may request confidentiality. Respondents who wish to withhold name and/or street address from public review or from disclosure under FOIA, must state this prominently at the beginning of the written comment. Such requests will be honored to the extent allowed by law. All submissions from organizations or businesses, and from individuals identifying themselves as representatives or officials of organizations or businesses, will be made available for public inspection in their entirety.

The Director will promptly render a decision on the protest. The decision will be in writing and will be sent to the protesting party by certified mail, return receipt requested. The decision of the Director shall be the final decision of the Department of the Interior.

Dated: April 21, 2003.
Lynda J. Roush,
Arcata Field Manager.

Editorial Note: This document was received at the Office of the Federal Register on September 29, 2003.

[FR Doc. 03-24980 Filed 10-9-03; 8:45 am]

BILLING CODE 4310-40-P